DEPARTMENT OF DEFENSE

Office of the Secretary

Revised Non-Foreign Overseas Per Diem Rates

AGENCY: Defense Human Resources Activity, Department of Defense (DoD).

ACTION: Notice of revised per diem rates in non-foreign areas outside the Continental U.S.

SUMMARY: Defense Human Resources Activity publishes this Civilian Personnel Per Diem Bulletin Number 328. Bulletin Number 328 lists current per diem rates prescribed for reimbursement of subsistence expenses while on official Government travel to Alaska, Hawaii, the Commonwealth of Puerto Rico, and the possessions of the United States. The Fiscal Year (FY) 2025 lodging rate review for Guam, American Samoa, Midway Islands, Northern Mariana Islands, and Wake Island resulted in rate changes for multiple locations. The meal rate for Wake Island was also updated during this review.

DATES: The updated rates take effect March 1, 2025.

FOR FURTHER INFORMATION CONTACT: Mr. John Kenney, 571-372-1300, john.p.kenney.civ@mail.mil.

SUPPLEMENTARY INFORMATION: This document notifies the public of revisions in per diem rates prescribed by the Per Diem, Travel, and Transportation Allowance Committee for travel to non-foreign areas outside the continental United States. The FY 2025 lodging rate review for Guam, American Samoa, Midway Islands, Northern Mariana Islands, and Wake Island resulted in lodging rate increases for three locations. The review also resulted in a meal rate increase for Wake Island. Bulletin Number 328 is published in the Federal Register to ensure that Government travelers outside the DoD are notified of revisions to the current reimbursement rates.

If you believe the lodging, meal or incidental allowance rate for a locality listed in the following table is insufficient, you may request a rate review for that location. For more information about how to request a review, please see the Defense Travel Management Office's Per Diem Rate Review Frequently Asked Questions (FAQ) page at https://www.travel.dod.mil/Travel-Transportation-Rates/Per-Diem/.

Dated: May 20, 2025.
Stephanie J. Bost,
Alternate OSD Federal Register Liaison Officer, Department of Defense.

State or territory | Locality | Season start | Season end | Lodging | M&IE | Total per diem | Effective date
ALASKA | [OTHER] | 01/01 | 12/31 | 230 | 121 | 351 | 02/01/2024
ALASKA | ADAK | 01/01 | 12/31 | 230 | 121 | 351 | 02/01/2024
ALASKA | ANCHORAGE | 05/01 | 08/31 | 279 | 145 | 424 | 02/01/2024
ALASKA | ANCHORAGE | 09/01 | 04/30 | 229 | 145 | 374 | 02/01/2024
ALASKA | BARROW | 05/01 | 08/31 | 301 | 129 | 430 | 02/01/2024
ALASKA | BARROW | 09/01 | 04/30 | 266 | 129 | 395 | 02/01/2024
ALASKA | BARTER ISLAND LRRS | 01/01 | 12/31 | 230 | 121 | 351 | 02/01/2024
ALASKA | BETHEL | 01/01 | 12/31 | 230 | 101 | 331 | 02/01/2024
ALASKA | BETTLES | 01/01 | 12/31 | 230 | 121 | * 351 | 02/01/2024
ALASKA | CAPE LISBURNE LRRS | 01/01 | 12/31 | 230 | 121 | 351 | 02/01/2024
ALASKA | CAPE NEWENHAM LRRS | 01/01 | 12/31 | 230 | 121 | 351 | 02/01/2024
ALASKA | CAPE ROMANZOF LRRS | 01/01 | 12/31 | 230 | 121 | 351 | 02/01/2024
ALASKA | CLEAR AB | 01/01 | 12/31 | 230 | 121 | 351 | 02/01/2024
ALASKA | COLD BAY | 01/01 | 12/31 | 230 | 121 | 351 | 02/01/2024
ALASKA | COLD BAY LRRS | 01/01 | 12/31 | 230 | 121 | 351 | 02/01/2024
ALASKA | COLDFOOT | 01/01 | 12/31 | 249 | 93 | 342 | 02/01/2024
ALASKA | COPPER CENTER | 01/01 | 12/31 | 230 | 121 | 351 | 02/01/2024
ALASKA | CORDOVA | 01/01 | 12/31 | 230 | 106 | 336 | 02/01/2024
ALASKA | CRAIG | 05/01 | 09/30 | 274 | 94 | 368 | 02/01/2024
ALASKA | CRAIG | 10/01 | 04/30 | 179 | 94 | 273 | 02/01/2024
ALASKA | DEADHORSE | 01/01 | 12/31 | 230 | 121 | * 351 | 02/01/2024
ALASKA | DELTA JUNCTION | 01/01 | 12/31 | 230 | 106 | 336 | 02/01/2024
ALASKA | DENALI NATIONAL PARK | 05/01 | 09/30 | 274 | 118 | 392 | 02/01/2024
ALASKA | DENALI NATIONAL PARK | 10/01 | 04/30 | 179 | 118 | 297 | 02/01/2024
ALASKA | DILLINGHAM | 01/01 | 12/31 | 320 | 113 | 433 | 02/01/2024
ALASKA | DUTCH HARBOR-UNALASKA | 01/01 | 12/31 | 230 | 129 | 359 | 02/01/2024
ALASKA | EARECKSON AIR STATION | 01/01 | 12/31 | 146 | 74 | 220 | 02/01/2024
ALASKA | EIELSON AFB | 05/16 | 09/30 | 254 | 108 | 362 | 02/01/2024
ALASKA | EIELSON AFB | 10/01 | 05/15 | 179 | 108 | 287 | 02/01/2024
ALASKA | ELFIN COVE | 01/01 | 12/31 | 230 | 121 | 351 | 02/01/2024
ALASKA | ELMENDORF AFB | 05/01 | 08/31 | 279 | 145 | 424 | 02/01/2024
ALASKA | ELMENDORF AFB | 09/01 | 04/30 | 229 | 145 | 374 | 02/01/2024
ALASKA | FAIRBANKS | 05/16 | 09/30 | 254 | 108 | 362 | 02/01/2024
ALASKA | FAIRBANKS | 10/01 | 05/15 | 179 | 108 | 287 | 02/01/2024
ALASKA | FORT YUKON LRRS | 01/01 | 12/31 | 230 | 121 | 351 | 02/01/2024
ALASKA | FT. GREELY | 01/01 | 12/31 | 230 | 106 | 336 | 02/01/2024
ALASKA | FT. RICHARDSON | 05/01 | 08/31 | 279 | 145 | 424 | 02/01/2024
ALASKA | FT. RICHARDSON | 09/01 | 04/30 | 229 | 145 | 374 | 02/01/2024
ALASKA | FT. WAINWRIGHT | 05/16 | 09/30 | 254 | 108 | 362 | 02/01/2024
ALASKA | FT. WAINWRIGHT | 10/01 | 05/15 | 179 | 108 | 287 | 02/01/2024
ALASKA | GAMBELL | 01/01 | 12/31 | 230 | 121 | 351 | 02/01/2024
ALASKA | GLENNALLEN | 01/01 | 12/31 | 230 | 121 | 351 | 02/01/2024
ALASKA | HAINES | 01/01 | 12/31 | 230 | 113 | 343 | 02/01/2024
ALASKA | HEALY | 05/01 | 09/30 | 274 | 118 | 392 | 02/01/2024
ALASKA | HEALY | 10/01 | 04/30 | 179 | 118 | 297 | 02/01/2024
ALASKA | HOMER | 05/01 | 09/30 | 274 | 124 | 398 | 02/01/2024
ALASKA | HOMER | 10/01 | 04/30 | 179 | 124 | 303 | 02/01/2024
ALASKA | JB ELMENDORF-RICHARDSON | 05/01 | 08/31 | 279 | 145 | 424 | 02/01/2024
ALASKA | JB ELMENDORF-RICHARDSON | 09/01 | 04/30 | 229 | 145 | 374 | 02/01/2024
ALASKA | JUNEAU | 02/01 | 10/31 | 274 | 118 | 392 | 02/01/2024
ALASKA | JUNEAU | 11/01 | 01/31 | 214 | 118 | 332 | 02/01/2024
ALASKA | KAKTOVIK | 01/01 | 12/31 | 230 | 121 | * 351 | 02/01/2024
ALASKA | KAVIK CAMP | 01/01 | 12/31 | 230 | 121 | * 351 | 02/01/2024
ALASKA | KENAI-SOLDOTNA | 05/01 | 10/31 | 274 | 113 | 387 | 02/01/2024
ALASKA | KENAI-SOLDOTNA | 11/01 | 04/30 | 179 | 113 | 292 | 02/01/2024
ALASKA | KENNICOTT | 01/01 | 12/31 | 230 | 121 | 351 | 02/01/2024
ALASKA | KETCHIKAN | 05/01 | 09/30 | 275 | 118 | 393 | 02/01/2024
ALASKA | KETCHIKAN | 10/01 | 04/30 | 160 | 118 | 278 | 02/01/2024
ALASKA | KING SALMON | 01/01 | 12/31 | 230 | 121 | 351 | 02/01/2024
ALASKA | KING SALMON LRRS | 01/01 | 12/31 | 230 | 121 | 351 | 02/01/2024
ALASKA | KLAWOCK | 01/01 | 12/31 | 230 | 94 | 324 | 02/01/2024
ALASKA | KODIAK | 02/01 | 10/31 | 231 | 109 | 340 | 02/01/2024
ALASKA | KODIAK | 11/01 | 01/31 | 138 | 109 | 247 | 02/01/2024
ALASKA | KOTZEBUE | 01/01 | 12/31 | 230 | 121 | 351 | 02/01/2024
ALASKA | KULIS AGS | 05/01 | 08/31 | 279 | 145 | 424 | 02/01/2024
ALASKA | KULIS AGS | 09/01 | 04/30 | 229 | 145 | 374 | 02/01/2024
ALASKA | MCCARTHY | 01/01 | 12/31 | 230 | 121 | 351 | 02/01/2024
ALASKA | MCGRATH | 01/01 | 12/31 | 230 | 121 | * 351 | 02/01/2024
ALASKA | MURPHY DOME | 05/16 | 09/30 | 254 | 108 | 362 | 02/01/2024
ALASKA | MURPHY DOME | 10/01 | 05/15 | 179 | 108 | 287 | 02/01/2024
ALASKA | NOME | 05/01 | 08/31 | 274 | 118 | 392 | 02/01/2024
ALASKA | NOME | 09/01 | 04/30 | 242 | 118 | 360 | 02/01/2024
ALASKA | NOSC ANCHORAGE | 05/01 | 08/31 | 279 | 145 | 424 | 02/01/2024
ALASKA | NOSC ANCHORAGE | 09/01 | 04/30 | 229 | 145 | 374 | 02/01/2024
ALASKA | NUIQSUT | 01/01 | 12/31 | 230 | 121 | * 351 | 02/01/2024
ALASKA | OLIKTOK LRRS | 01/01 | 12/31 | 230 | 121 | 351 | 02/01/2024
ALASKA | PALMER | 05/01 | 09/30 | 274 | 131 | 405 | 02/01/2024
ALASKA | PALMER | 10/01 | 04/30 | 196 | 131 | 327 | 02/01/2024
ALASKA | PETERSBURG | 01/01 | 12/31 | 230 | 108 | 338 | 02/01/2024
ALASKA | POINT BARROW LRRS | 01/01 | 12/31 | 230 | 121 | 351 | 02/01/2024
ALASKA | POINT HOPE | 01/01 | 12/31 | 230 | 121 | * 351 | 02/01/2024
ALASKA | POINT LONELY LRRS | 01/01 | 12/31 | 230 | 121 | 351 | 02/01/2024
ALASKA | PORT ALEXANDER | 01/01 | 12/31 | 230 | 121 | * 351 | 02/01/2024
ALASKA | PORT ALSWORTH | 01/01 | 12/31 | 230 | 121 | 351 | 02/01/2024
ALASKA | PRUDHOE BAY | 01/01 | 12/31 | 230 | 121 | * 351 | 02/01/2024
ALASKA | SELDOVIA | 05/01 | 09/30 | 274 | 124 | 398 | 02/01/2024
ALASKA | SELDOVIA | 10/01 | 04/30 | 179 | 124 | 303 | 02/01/2024
ALASKA | SEWARD | 04/01 | 09/30 | 284 | 164 | 448 | 02/01/2024
ALASKA | SEWARD | 10/01 | 03/31 | 179 | 164 | 343 | 02/01/2024
ALASKA | SITKA-MT. EDGECUMBE | 05/01 | 09/30 | 274 | 116 | 390 | 02/01/2024
ALASKA | SITKA-MT. EDGECUMBE | 10/01 | 04/30 | 199 | 116 | 315 | 02/01/2024
ALASKA | SKAGWAY | 05/01 | 09/30 | 274 | 118 | 392 | 02/01/2024
ALASKA | SKAGWAY | 10/01 | 04/30 | 179 | 118 | 297 | 02/01/2024
ALASKA | SLANA | 01/01 | 12/31 | 230 | 121 | 351 | 02/01/2024
ALASKA | SPARREVOHN LRRS | 01/01 | 12/31 | 230 | 121 | 351 | 02/01/2024
ALASKA | SPRUCE CAPE | 03/01 | 09/30 | 274 | 109 | 383 | 02/01/2024
ALASKA | SPRUCE CAPE | 10/01 | 02/28 | 179 | 109 | 288 | 02/01/2024
ALASKA | ST. GEORGE | 01/01 | 12/31 | 230 | 121 | 351 | 02/01/2024
ALASKA | TALKEETNA | 01/01 | 12/31 | 230 | 123 | 353 | 02/01/2024
ALASKA | TANANA | 05/01 | 08/31 | 274 | 118 | 392 | 02/01/2024
ALASKA | TANANA | 09/01 | 04/30 | 242 | 118 | 360 | 02/01/2024
ALASKA | TATALINA LRRS | 01/01 | 12/31 | 230 | 121 | 351 | 02/01/2024
ALASKA | TIN CITY LRRS | 01/01 | 12/31 | 230 | 121 | 351 | 02/01/2024
ALASKA | TOK | 01/01 | 12/31 | 230 | 113 | 343 | 02/01/2024
ALASKA | VALDEZ | 05/16 | 09/15 | 274 | 110 | 384 | 02/01/2024
ALASKA | VALDEZ | 09/16 | 05/15 | 179 | 110 | 289 | 02/01/2024
ALASKA | WAINWRIGHT | 01/01 | 12/31 | 295 | 77 | 372 | 02/01/2024
ALASKA | WASILLA | 06/01 | 09/30 | 274 | 104 | 378 | 02/01/2024
ALASKA | WASILLA | 10/01 | 05/31 | 179 | 104 | 283 | 02/01/2024
ALASKA | WRANGELL | 05/01 | 09/30 | 275 | 118 | 393 | 02/01/2024
ALASKA | WRANGELL | 10/01 | 04/30 | 160 | 118 | 278 | 02/01/2024
ALASKA | YAKUTAT | 06/01 | 09/30 | 350 | 111 | 461 | 02/01/2024
ALASKA | YAKUTAT | 10/01 | 05/31 | 179 | 111 | 290 | 02/01/2024
AMERICAN SAMOA | AMERICAN SAMOA | 01/01 | 12/31 | 149 | 103 | 252 | 05/01/2023
AMERICAN SAMOA | PAGO PAGO | 01/01 | 12/31 | 149 | 103 | 252 | 05/01/2023
GUAM | GUAM (INCL ALL MIL INSTAL) | 01/01 | 12/31 | 179 | 124 | 303 | 03/01/2025
GUAM | JOINT REGION MARIANAS (ANDERSEN) | 01/01 | 12/31 | 179 | 124 | 303 | 03/01/2025
GUAM | JOINT REGION MARIANAS (NAVAL BASE) | 01/01 | 12/31 | 179 | 124 | 303 | 03/01/2025
GUAM | TAMUNING | 01/01 | 12/31 | 179 | 124 | 303 | 03/01/2025
HAWAII | [OTHER] | 01/01 | 12/31 | 229 | 157 | 386 | 02/01/2023
HAWAII | CAMP H M SMITH | 01/01 | 12/31 | 202 | 157 | 359 | 02/01/2023
HAWAII | CNI NAVMAG PEARL HARBOR- HICKAM | 01/01 | 12/31 | 202 | 157 | 359 | 02/01/2023
HAWAII | FT. DERUSSEY | 01/01 | 12/31 | 202 | 157 | 359 | 02/01/2023
HAWAII | FT. SHAFTER | 01/01 | 12/31 | 202 | 157 | 359 | 02/01/2023
HAWAII | HICKAM AFB | 01/01 | 12/31 | 202 | 157 | 359 | 02/01/2023
HAWAII | HONOLULU | 01/01 | 12/31 | 202 | 157 | 359 | 02/01/2023
HAWAII | ISLE OF HAWAII: HILO | 01/01 | 12/31 | 199 | 146 | 345 | 02/01/2023
HAWAII | ISLE OF HAWAII: LOCATIONS OTHER THAN HILO | 01/01 | 12/31 | 229 | 173 | 402 | 02/01/2023
HAWAII | ISLE OF KAUAI | 01/01 | 12/31 | 325 | 165 | 490 | 02/01/2023
HAWAII | ISLE OF LANAI | 01/01 | 12/31 | 229 | 157 | 386 | 02/01/2023
HAWAII | ISLE OF MAUI | 01/01 | 12/31 | 354 | 153 | 507 | 02/01/2023
HAWAII | ISLE OF MOLOKAI | 01/01 | 12/31 | 229 | 157 | 386 | 02/01/2023
HAWAII | ISLE OF OAHU | 01/01 | 12/31 | 202 | 157 | 359 | 02/01/2023
HAWAII | JB PEARL HARBOR-HICKAM | 01/01 | 12/31 | 202 | 157 | 359 | 02/01/2023
HAWAII | KAPOLEI | 01/01 | 12/31 | 202 | 157 | 359 | 02/01/2023
HAWAII | KEKAHA PACIFIC MISSILE RANGE FAC | 01/01 | 12/31 | 325 | 165 | 490 | 03/01/23
HAWAII | KILAUEA MILITARY CAMP | 01/01 | 12/31 | 199 | 146 | 345 | 02/01/2023
HAWAII | LIHUE | 01/01 | 12/31 | 325 | 165 | 490 | 02/01/2023
HAWAII | MCB HAWAII | 01/01 | 12/31 | 202 | 157 | 359 | 02/01/2023
HAWAII | NCTAMS PAC WAHIAWA | 01/01 | 12/31 | 202 | 157 | 359 | 02/01/2023
HAWAII | NOSC PEARL HARBOR | 01/01 | 12/31 | 202 | 157 | 359 | 02/01/2023
HAWAII | PEARL HARBOR | 01/01 | 12/31 | 202 | 157 | 359 | 02/01/2023
HAWAII | PMRF BARKING SANDS | 01/01 | 12/31 | 325 | 165 | 490 | 02/01/2023
HAWAII | SCHOFIELD BARRACKS | 01/01 | 12/31 | 202 | 157 | 359 | 02/01/2023
HAWAII | TRIPLER ARMY MEDICAL CENTER | 01/01 | 12/31 | 202 | 157 | 359 | 02/01/2023
HAWAII | WHEELER ARMY AIRFIELD | 01/01 | 12/31 | 202 | 157 | 359 | 02/01/2023
MIDWAY ISLANDS | MIDWAY ISLANDS | 01/01 | 12/31 | 125 | 81 | 206 | 05/01/2023
NORTHERN MARIANA ISLANDS | ROTA | 01/01 | 12/31 | 161 | 125 | 286 | 03/01/2025
NORTHERN MARIANA ISLANDS | SAIPAN | 01/01 | 12/31 | 161 | 113 | 274 | 05/01/2023
NORTHERN MARIANA ISLANDS | TINIAN | 01/01 | 12/31 | 161 | 95 | 256 | 03/01/2025
PUERTO RICO | [OTHER] | 01/01 | 12/31 | 183 | 116 | 299 | 06/01/2024
PUERTO RICO | AGUADILLA | 01/01 | 12/31 | 149 | 97 | 246 | 06/01/2024
PUERTO RICO | BAYAMON | 12/01 | 06/30 | 245 | 148 | 393 | 06/01/2024
PUERTO RICO | BAYAMON | 07/01 | 11/30 | 217 | 148 | 365 | 06/01/2024
PUERTO RICO | CAROLINA | 12/01 | 06/30 | 245 | 148 | 393 | 06/01/2024
PUERTO RICO | CAROLINA | 07/01 | 11/30 | 217 | 148 | 365 | 06/01/2024
PUERTO RICO | CEIBA | 01/01 | 12/31 | 183 | 110 | 293 | 06/01/2024
PUERTO RICO | CULEBRA | 01/01 | 12/31 | 183 | 116 | 299 | 06/01/2024
PUERTO RICO | FAJARDO [INCL ROOSEVELT RDS NAVSTAT] | 01/01 | 12/31 | 183 | 110 | 293 | 06/01/2024
PUERTO RICO | FT. BUCHANAN [INCL GSA SVC CTR, GUAYNABO] | 12/01 | 06/30 | 245 | 148 | 393 | 06/01/2024
PUERTO RICO | FT. BUCHANAN [INCL GSA SVC CTR, GUAYNABO] | 07/01 | 11/30 | 217 | 148 | 365 | 06/01/2024
PUERTO RICO | HUMACAO | 01/01 | 12/31 | 183 | 110 | 293 | 06/01/2024
PUERTO RICO | LUIS MUNOZ MARIN IAP AGS | 12/01 | 06/30 | 245 | 148 | 393 | 06/01/2024
PUERTO RICO | LUIS MUNOZ MARIN IAP AGS | 07/01 | 11/30 | 217 | 148 | 365 | 06/01/2024
PUERTO RICO | LUQUILLO | 01/01 | 12/31 | 183 | 110 | 293 | 06/01/2024
PUERTO RICO | MAYAGUEZ | 01/01 | 12/31 | 129 | 116 | 245 | 06/01/2024
PUERTO RICO | PONCE | 01/01 | 12/31 | 149 | 146 | 295 | 06/01/2024
PUERTO RICO | RIO GRANDE | 01/01 | 12/31 | 219 | 97 | 316 | 06/01/2024
PUERTO RICO | SABANA SECA [INCL ALL MILITARY] | 12/01 | 06/30 | 245 | 148 | 393 | 06/01/2024
PUERTO RICO | SABANA SECA [INCL ALL MILITARY] | 07/01 | 11/30 | 217 | 148 | 365 | 06/01/2024
PUERTO RICO | SAN JUAN & NAV RES STA | 12/01 | 06/30 | 245 | 148 | 393 | 06/01/2024
PUERTO RICO | SAN JUAN & NAV RES STA | 07/01 | 11/30 | 217 | 148 | 365 | 06/01/2024
PUERTO RICO | VIEQUES | 01/01 | 12/31 | 183 | 125 | 308 | 06/01/2024
VIRGIN ISLANDS (U.S.) | ST. CROIX | 07/01 | 10/31 | 247 | 115 | 362 | 10/01/2024
VIRGIN ISLANDS (U.S.) | ST. CROIX | 11/01 | 06/30 | 299 | 115 | 414 | 10/01/2024
VIRGIN ISLANDS (U.S.) | ST. JOHN | 04/15 | 12/15 | 324 | 150 | 474 | 10/01/2024
VIRGIN ISLANDS (U.S.) | ST. JOHN | 12/16 | 04/14 | 414 | 150 | 564 | 10/01/2024
VIRGIN ISLANDS (U.S.) | ST. THOMAS | 04/15 | 12/15 | 324 | 150 | 474 | 10/01/2024
VIRGIN ISLANDS (U.S.) | ST. THOMAS | 12/16 | 04/14 | 414 | 150 | 564 | 10/01/2024
WAKE ISLAND | WAKE ISLAND | 01/01 | 12/31 | 136 | 78 | 214 | 03/01/2025
* Where meals are included in the lodging rate, a traveler is only allowed a meal rate on the first and last day of travel.

[FR Doc. 2025-09317 Filed 5-22-25; 8:45 am]

BILLING CODE 6001-FR-P